DEPARTMENT OF DEFENSE

Office of the Secretary

[Transmittal No. 25-1J]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1J.

Dated: February 4, 2026.
Stephanie J. Bost,
Alternate OSD Federal Register Liaison Officer, Department of Defense.

BILLING CODE 6001-FR-P

BILLING CODE 6001-FR-C

Transmittal No. 25-1J

REPORT OF ENHANCEMENT OR UPGRADE OF SENSITIVITY OF TECHNOLOGY OR CAPABILITY (SEC. 36(B)(5)(C), AECA)

(i) Purchaser: Government of Spain

(ii) Sec. 36(b)(1), AECA Transmittal No.: 21-43

Date: May 24, 2021

Military Department: Air Force

(iii) Description: On May 24, 2021, Congress was notified by congressional certification transmittal number 21-43 of the possible sale, under Section 36(b)(1) of the Arms Export Control Act, of the Government of Spain's request to buy follow on Contractor Logistics Support to include contractor provided MQ-9A Blk 5 aircraft components, spares, and accessories; repair and return; software and software support services; simulator software; personnel training and training equipment; publications and technical documentation; United States (U.S.) Government and contractor provided engineering, technical and logistical support services; and other related elements of logistical and program support. The total estimated program cost was $110 million. There was no Major Defense Equipment (MDE) associated with this sale.

On August 8, 2024, Congress was notified by congressional certification transmittal number 0G-24 of the addition of the following non-MDE items: modification kits, M299 launchers, and BRU-71 pylons to enable the employment of weapons on the previously notified MQ-9 Remotely Piloted Aircraft; personnel training and training equipment; publications and technical documentation; U.S. Government and contractor engineering, technical, and logistics support services; and other related elements of logistics and program support. The estimated total value of added non-MDE articles and services was $11.6 million. The estimated total case value remained at $110 million. There was no MDE associated with this sale.

This transmittal notifies an extension of the previously notified technical support services; U.S. Government and contractor engineering, technical, and logistics support services; and other related elements of logistics and program support for the MQ-9 unmanned aerial system. The estimated total cost of the newly extended, non-MDE services is $200 million. The estimated total case value will increase by $200 million to a revised $310 million. There is no MDE associated with this potential sale.

(iv) Significance: This proposed sale will support Spain's effort to build intelligence, surveillance, and reconnaissance (ISR) and strike capabilities.

(v) Justification: This proposed sale will support the foreign policy goals and national security objectives of the U.S. by improving the security of a NATO Ally which is an important force for political stability and economic progress in Europe.

(vi) Sensitivity of Technology: The Sensitivity of Technology Statement contained in the original notification applies to items reported here. The highest level of classification of defense articles, components, and services included in this potential sale is SECRET.

(vii) Date Report Delivered to Congress: November 26, 2025

[FR Doc. 2026-02399 Filed 2-5-26; 8:45 am]

BILLING CODE 6001-FR-P